DEPARTMENT OF ENERGY

Federal Energy Regulatory Commission

[Project No. 14366-000]

City of New York; Notice of Preliminary Permit Application Accepted for Filing and Soliciting Comments, Motions To Intervene, and Competing Applications

On March 1, 2012, the City of New York filed an application, pursuant to section 4(f) of the Federal Power Act, proposing to study the feasibility of the West of Hudson Hydroelectric Project, which comprises two development sites, Pepacton located on the East Branch of the Delaware River and Neversink located on the Neversink River. The Pepacton Development would be located in Delaware County, New York, and the Neversink Development would be located in Sullivan County, New York.

The proposed West of Hudson Hydroelectric Project would consist of the following developments:

Pepacton Development:

(1) An existing 2,450-foot-long, 204-foot-high earthen Downsville Dam; (2) an existing reservoir having a surface area of 5,560 acres and a storage capacity of 441,000 acre-feet and normal water surface elevation of 1,280 feet mean sea level; (3) a proposed powerhouse containing one new generating unit having an installed capacity of 1.7-megawatts; (4) a proposed 80-foot-long, 12.5-kilovolt transmission line; and (5) appurtenant facilities. The proposed Pepacton Development would have an average annual generation of 9.235-gigawatt-hours.

Neversink Development:

(1) An existing 2,800-foot-long, 195-foot-high earthen Neversink Dam; (2) an existing reservoir having a surface area of 1,478 acres and a storage capacity of 112,000 acre-feet and normal water surface elevation of 1,440 feet mean sea level; (3) a proposed powerhouse containing one new generating unit having an installed capacity of 0.9-megawatt; (4) a proposed 760-foot-long, 12.5-kilovolt transmission line; and (5) appurtenant facilities. The proposed Neversink Development would have an average annual generation of 5.457-gigawatt-hours.

Applicant Contact: Mr. Kevin M. Lang, Esq., Couch White, LLP, 540 Broadway, P. O. Box 22222, Albany, NY 12201-2222, phone (518) 426-4600.

FERC Contact: Timothy Looney; phone: (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14366) in the docket number field to access the document. For assistance, contact FERC Online Support.

Dated: April 12, 2012.
Kimberly D. Bose,
Secretary.

[FR Doc. 2012-9364 Filed 4-18-12; 8:45 am]

BILLING CODE 6717-01-P